ENVIRONMENTAL PROTECTION AGENCY

[FRL-9937-05-Region 2]

Proposed CERCLA Section 122(h) Cost Recovery Settlements for the Power City Superfund Site, Niagara Falls, Niagara County, New York

AGENCY: Environmental Protection Agency (EPA).

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region II, of two separate proposed cost recovery settlement agreements pursuant to Section 122(h) of CERCLA, 42 U.S.C. 9622(h), with Honeywell International Inc. and RR Donnelley and Sons Company (the “Settling Parties”), respectively, for the Power City Superfund Site (“Site”), located in Niagara Falls, Niagara County, New York. Honeywell International Inc. agrees to pay EPA $825,000 and RR Donnelley and Sons Company agrees to pay $103,200, plus interest, respectively, in reimbursement of their respective shares of EPA's past response costs paid at or in connection with the Site.

Each settlement includes a covenant by EPA not to sue or to take administrative action against each respective Settling Party pursuant to Section 107(a) of CERCLA, 42 U.S.C. 9607(a), with regard to the response costs related to the work at the Site enumerated in each settlement agreement. For thirty (30) days following the date of publication of this notice, EPA will receive written comments relating to the settlement. EPA will consider all comments received and may modify or withdraw its consent to either or both settlements if comments received disclose facts or considerations that indicate that one or both of the proposed settlements is inappropriate, improper, or inadequate. EPA's response to any comments received will be available for public inspection at EPA Region II, 290 Broadway, New York, New York 10007-1866.

DATES: Comments must be submitted on or before December 14, 2015.

ADDRESSES: The proposed settlements are available for public inspection at EPA Region II offices at 290 Broadway, New York, New York 10007-1866. Comments should reference the Power City Superfund Site, Niagara Falls, Niagara County, New York, Index No. CERCLA-02-2015-2007 for the Honeywell International Inc. settlement agreement, and CERCLA-02-2015-2022 for the RR Donnelley and Sons Company settlement agreement. To request a copy of either or both proposed settlement agreements, please contact the EPA employee identified below.

FOR FURTHER INFORMATION CONTACT: Andrew Praschak, Assistant Regional Counsel, New York/Caribbean Superfund Branch, Office of Regional Counsel, U.S. Environmental Protection Agency, 290 Broadway—17th Floor, New York, New York 10007-1866. Email: praschak.andrew@epa.gov Telephone: 212-637-3172.

Dated: October 15, 2015.
Walter Mugdan,
Director, Emergency and Remedial Response Division, U.S. Environmental Protection Agency, Region 2.

[FR Doc. 2015-28837 Filed 11-12-15; 8:45 am]

BILLING CODE 6560-50-P